DEPARTMENT OF VETERANS AFFAIRS

Loan Guaranty: Assistance to Eligible Individuals in Acquiring Specially Adapted Housing; Cost-of-Construction Index

AGENCY: Department of Veterans Affairs.

ACTION: Notice.

SUMMARY: The Department of Veterans Affairs (VA) announces that the aggregate amounts of assistance available under the Specially Adapted Housing (SAH) grant program have increased by 6.39% for fiscal year (FY) 2024.

DATES: The increases in the aggregate amounts outlined in this notice were effective as of October 1, 2023.

FOR FURTHER INFORMATION CONTACT: Terry Rouch, Assistant Director for Loan Policy and Valuation, Loan Guaranty Service, Veterans Benefits Administration, Department of Veterans Affairs, 810 Vermont Avenue NW, Washington, DC 20420, 202-632-8862 (This is not a toll-free number).

SUPPLEMENTARY INFORMATION: In accordance with 38 U.S.C. 2102(e), 38 U.S.C. 2102A(b)(2), 38 U.S.C. 2102B(b)(2), and 38 CFR 36.4411, the Secretary of Veterans Affairs announces for FY 2024 the aggregate amounts of assistance available to Veterans and Service members eligible for SAH program grants.

Section 2102(e)(2) authorizes the Secretary to increase the aggregate amounts of SAH assistance annually based on a residential home cost-of construction index. The Secretary uses the Turner Building Cost Index for this purpose. See 38 CFR 36.4411(a). Such increase will be equal to the percentage by which the Turner Building Cost Index for the most recent calendar year exceeds that of the next preceding calendar year. If, however, the Turner Building Cost Index for the most recent full calendar year is equal to or less than the next preceding calendar year, the percentage increase will be zero. See 38 CFR 36.4411(b).

In the most recent quarter for which the Turner Building Cost Index is available, second quarter 2023, the index showed an increase of 6.39% over the index value listed for second quarter 2022. Turner Construction Company, https://www.turnerconstruction.com/cost-index (last visited August 1, 2023). Pursuant to 38 CFR 36.4411(a), therefore, the aggregate amounts of assistance for SAH grants made pursuant to 38 U.S.C. 2101(a) and 2101(b) have increased by 6.39% for FY 2024. VA measures the calendar year from the end of the second quarter of the preceding year to the end of the second quarter of the current year for the purpose of adjusting SAH grant amounts. This calendar year period provides more up-to-date cost of construction information for a possible adjustment effective October 1 when compared to a January-through-December period, which would result in a 10-month delay in implementation.

Sections 2102A(b)(2) and 2102B(b)(2) require the Secretary to apply the same percentage calculated pursuant to section 2102(e) to grants authorized pursuant to sections 2102A and 2102B. As such, the maximum amount of assistance available under these grants has also increased by 6.39% for FY 2024.

The increases were effective as of October 1, 2023 (38 U.S.C. 2102(e), 38 U.S.C. 2102A(b)(2) and 38 U.S.C. 2102B(b)(2)).

SAH: Aggregate Amounts of Assistance Available During Fiscal Year 2024

Section 2101(a) Grants and Temporary Residence Adaptation (TRA) Grants

Effective October 1, 2023, the aggregate amount of assistance available for SAH grants made pursuant to 38 U.S.C. 2101(a) is $117,014 during FY 2024. The maximum TRA grant made to an individual who satisfies the eligibility criteria under 38 U.S.C. 2101(a) and 2102A is $47,130 during FY 2024.

Section 2101(b) Grants and TRA Grants

Effective as of October 1, 2023, the aggregate amount of assistance available for SAH grants made pursuant to 38 U.S.C. 2101(b) is $23,444 during FY 2024. The maximum TRA grant made to an individual who satisfies the eligibility Criteria under 38 U.S.C. 2101(b) and 2102A is $8,415 during FY 2024.

Section 2102B Grants

Effective October 1, 2023, the amount of assistance available for grants made pursuant to 38 U.S.C. 2102B is $107,357 during FY 2024; however, the Secretary may waive this limitation for a Veteran if the Secretary determines a waiver is necessary for the rehabilitation program of the Veteran.

Signing Authority

Denis McDonough, Secretary of Veterans Affairs, signed and approved this document on November 7, 2023, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2023-24984 Filed 11-13-23; 8:45 am]

BILLING CODE 8320-01-P